DEPARTMENT OF LABOR

Employment and Training Administration

Investigations Regarding Eligibility To Apply for Worker Adjustment Assistance

Petitions have been filed with the Secretary of Labor under Section 221 (a) of the Trade Act of 1974 (“the Act”) and are identified in the Appendix to this notice. Upon receipt of these petitions, the Director of the Office of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than September 16, 2013.

Interested persons are invited to submit written comments regarding the subject matter of the investigations to the Director, Office of Trade Adjustment Assistance, at the address shown below, not later than September 16, 2013.

The petitions filed in this case are available for inspection at the Office of the Director, Office of Trade Adjustment Assistance, Employment and Training Administration, U.S. Department of Labor, Room N-5428, 200 Constitution Avenue NW., Washington, DC 20210.

Signed at Washington, DC this 22nd day of August 2013.
Michael W. Jaffe,
Certifying Officer, Office of Trade Adjustment Assistance.

Appendix

Appendix
[31 TAA petitions instituted between 8/12/13 and 8/16/13]
TA-W | Subject firm (petitioners) | Location | Date of institution | Date of petition
82968 | Zila, Inc. (State/One-Stop) | Batesville, AR | 08/13/13 | 08/08/13
82969 | GE Healthcare IITS USA Corp HHS Divsion (State/One-Stop) | Seattle, WA | 08/13/13 | 08/08/13
82970 | Trek Bicycles (State/One-Stop) | Waterloo, WI | 08/13/13 | 08/12/13
82971 | Hartford Financial Services Group, Inc. (State/One-Stop) | Hartford, CT | 08/13/13 | 08/12/13
82972 | John Wiley & Sons, Inc. (Workers) | Indianapolis, IN | 08/13/13 | 08/09/13
82973 | WildBrain DHX Entertainment (State/One-Stop) | Sherman Oaks, CA | 08/13/13 | 08/09/13
82974 | Schneider Electric (Company) | Loves Park, IL | 08/13/13 | 08/07/13
82975 | Systems & Services Technologies (Workers) | St. Joseph, MO | 08/13/13 | 08/09/13
82976 | CQ Sourcing, Warehouse Division (Workers) | New Castle, IN | 08/13/13 | 08/12/13
82977 | Pall Corporation (State/One-Stop) | Port Washington, NY | 08/13/13 | 08/12/13
82978 | Belldini (State/One-Stop) | Los Angeles, CA | 08/13/13 | 08/12/13
82979 | Cardionet (Workers) | Conshohocken, PA | 08/13/13 | 08/09/13
82980 | Sunrise Medical (Company) | Fresno, CA | 08/13/13 | 08/09/13
82981 | Arris/Motorola Home (State/One-Stop) | Libertyville, IL | 08/13/13 | 08/12/13
82982 | Gates Corporation—Ashe County incl. Kelly Services (Company) | Jefferson, NC | 08/13/13 | 08/12/13
82983 | Parker Hannifin Corporation, Parker Medical Systems Division (Workers) | Fontana, CA | 08/13/13 | 08/09/13
82984 | The Berry Company, LLC (State/One-Stop) | Rochester, NY | 08/13/13 | 08/09/13
82985 | RR Donnelley (State/One-Stop) | Jefferson City, MO | 08/14/13 | 08/09/13
82986 | McDermott International (State/One-Stop) | Morgan City, LA | 08/14/13 | 08/13/13
82987 | Honeywell Inc (Workers) | Phoenix, AZ | 08/14/13 | 08/13/13
82988 | RadiSys Corporation (Company) | Hillsboro, OR | 08/14/13 | 08/12/13
82989 | Ricon Corporation (Company) | Panorama City, CA | 08/14/13 | 08/13/13
82990 | Prudential Financial (Workers) | Dresher, PA | 08/14/13 | 07/31/13
82991 | Bausch & Lomb (Workers) | Rochester, NY | 08/14/13 | 08/08/13
82992 | The Electric Materials Company (Company) | North East, PA | 08/15/13 | 08/14/13
82993 | Welch Allyn (Company) | Beaverton, OR | 08/15/13 | 08/14/13
82994 | Liberty Tire Recycling, LLC (Workers) | Braddock, PA | 08/15/13 | 08/14/13
82995 | King Brothers Woodworking (State/One-Stop) | Union Gap, WA | 08/16/13 | 08/15/13
82996 | Pratt & Whitney (State/One-Stop) | East Hartford, CT | 08/16/13 | 08/15/13
82997 | H&T Waterbury, Inc. (Company) | Waterbury, CT | 08/16/13 | 08/15/13
82998 | Innovative Dental (Company) | Reno, NV | 08/16/13 | 08/15/13

[FR Doc. 2013-21428 Filed 9-3-13; 8:45 am]

BILLING CODE 4510-FN-P